DEPARTMENT OF TRANSPORTATION

Federal Aviation Administration

14 CFR Part 71

[Docket No. FAA-2008-0809; Airspace Docket No. 08-ASO-13]

Establishment of Class E Airspace; Morehead, KY

AGENCY: Federal Aviation Administration (FAA), DOT.

ACTION: Direct final rule; confirmation of effective date.

SUMMARY: This action confirms the effective date of a direct final rule establishing Class E Airspace at Morehead, KY. Controlled airspace extending upward from 700 feet Above Ground Level (AGL) is needed to contain the Standard Instrument Approach Procedures (SIAPs) at the airport.

DATES: Effective Date: 0901 UTC, May 6, 2009. The Director of the Federal Register approves this incorporation by reference action under Title 1, Code of Federal Regulations, part 51, subject to the annual revision of FAA Order 7400.9 and publication of conforming amendments.

FOR FURTHER INFORMATION CONTACT: Melinda Giddens, Operations Support Group, Eastern Service Center, Federal Aviation Administration, P.O. Box 20636, Atlanta, Georgia 30320; telephone (404) 305-5610.

SUPPLEMENTARY INFORMATION:

Confirmation of Effective Date

The FAA published a direct final rule with a request for comments in the Federal Register (73 FR 62878) on October 22, 2008, Docket No. FAA-2008-0809; Airspace Docket No. 08-ASO-13. The FAA uses the direct final rulemaking procedure for a non-controversial rule where the FAA believes that there will be no adverse public comment. This direct final rule advised the public that no adverse comments were anticipated, and that unless a written adverse comment or a written notice of intent to submit such an adverse comment were received within the comment period, the regulation would become effective on January 15, 2009. No adverse comments were received, and thus this notice confirms that effective date.

* * * * *

Issued in College Park, Georgia, on April 21, 2009.
Barry A. Knight,
Manager, Operations Support Group, Eastern Service Center, Air Traffic Organization.

[FR Doc. E9-10394 Filed 5-5-09; 8:45 am]

BILLING CODE 4910-13-P